DEPARTMENT OF THE INTERIOR

Fish and Wildlife Service

50 CFR Part 17

RIN 1018-AF45

Endangered and Threatened Wildlife and Plants; Reopening of Comment Period and Notice of Public Hearing on Proposed Rule To List the Southwestern Washington/Columbia River Coastal Cutthroat Trout in Washington and Oregon as Threatened

AGENCY: Fish and Wildlife Service, Interior.

ACTION: Proposed rule; reopening of comment period and notice of public hearing.

SUMMARY: The U.S. Fish and Wildlife Service (FWS) gives notice of a public hearing on the proposed rule to list the southwestern Washington/Columbia River coastal cutthroat trout in Washington and Oregon. In addition, the comment period which originally closed on May 15, 2000, will be reopened. The new comment period and hearing will allow all interested parties to submit oral or written comments on the proposal.

DATES: The comment period for this proposal now closes on July 3, 2000. Any comments received by the closing date will be considered in the final decision on this proposal. The public hearing will be held from 1 p.m. until 3 p.m. and from 6 p.m. until 8 p.m. on June 20, 2000, in Ilwaco, Washington.

ADDRESSES: The public hearing will be held at the Ilwaco Heritage Museum, 115 SE Lake Street, Ilwaco, Washington. Written comments and materials should be sent to Kemper McMaster, State Supervisor, Oregon Fish and Wildlife Office, U.S. Fish and Wildlife Service, 2600 SE 98th Avenue, Suite 100, Portland, Oregon 97266. Comments and materials received will be available for public inspection, by appointment, during normal business hours at the above FWS address.

FOR FURTHER INFORMATION CONTACT: Kemper McMaster, at the above Portland, Oregon address, phone 503-231-6179, facsimile 503-231-6195, for written comments or Gerry Jackson, State Supervisor, Western Washington Fish and Wildlife Office, 510 Desmond Dr., Suite 102, Lacey, Washington, phone 360-753-9440, facsimile 503-231-9008 for information on the public hearing.

SUPPLEMENTARY INFORMATION:

Background

On April 5, 1999, the National Marine Fisheries Service (NMFS) and the Fish and Wildlife Service (FWS) published a notice in the Federal Register (64 FR 16397) proposing to list the coastal cutthroat trout (Oncorhynchus clarki clarki) population in southwestern Washington and the Columbia River, excluding the Willamette River above Willamette Falls, as threatened pursuant to the Endangered Species Act of 1973, as amended (Act). The FWS published a notice in the Federal Register (65 FR 20123) on April 14, 2000, to extend the deadline from April 5, 2000, to October 5, 2000 for the final action on the proposed rule to list this population in Washington and Oregon; and to provide a 30-day comment period. The 6-month extension was necessary to obtain and review new information needed to resolve substantial scientific disagreement about the status of this population.

In response to a request for a public hearing during the public comment period for the 6-month extension, the FWS will hold a public hearing on the date and address described in the DATES and ADDRESSES sections above.

Anyone wishing to make an oral statement for the record is encouraged to provide a written copy of their statement and present it to the FWS at the hearing. In the event there is a large attendance, the time allotted for oral statements may be limited. Oral and written statements receive equal consideration. There are no limits to the length of written comments presented at the hearing or mailed to the FWS. Legal notices announcing the date, time, and location of the hearing will be published in newspapers concurrently with the Federal Register notice.

Comments from the public regarding the accuracy of this proposed rule are sought, especially regarding: (1) Biological or other relevant data concerning any threat to cutthroat trout; (2) The range, distribution, and population size of coastal cutthroat trout in southwestern Washington and the Columbia River; (3) Current or planned activities in the subject area and their possible impacts on the species; (4) Cutthroat trout escapement, particularly escapement data partitioned into natural and hatchery components; (5) The proportion of naturally reproducing fish that were reared as juveniles in a hatchery; (6) Homing and straying of natural and hatchery fish; (7) The reproductive success of naturally reproducing hatchery fish and their relationship to southwestern Washington and the Columbia River coastal cutthroat trout populations; and (8) Efforts being made to protect native, naturally reproducing populations of coastal cutthroat trout.

Reopening of the comment period will enable the FWS to respond to the request for a public hearing on the proposed action. The comment period on this proposal closes on July 3, 2000. Written comments should be submitted to the FWS office listed in the ADDRESSES section.

Author

The primary author of this notice is Jim Muck (Fish and Wildlife Service, Western Washington Office, 510 Desmond Dr. SE, Suite 102, Lacey, Washington, 98503).

Authority

The authority for this action is the Endangered Species Act of 1973, as amended (16 U.S.C. 1531-1544).

Dated: May 12, 2000.
Thomas J. Dwyer,
Acting Regional Director.

[FR Doc. 00-12494 Filed 6-1-00; 8:45 am]

BILLING CODE 4310-55-U